DEPARTMENT OF ENERGY

Federal Energy Regulatory Commission

[Docket Nos. CP02-379-000 and CP02-380-000]

Southern LNG, Inc.; Notice of Availability of the Environmental Assessment for the Proposed Elba Island Expansion Project

February 5, 2003.

The staff of the Federal Energy Regulatory Commission (FERC or Commission) has prepared an environmental assessment (EA) on the liquefied natural gas (LNG) facilities proposed by Southern LNG, Inc. (Southern LNG) in the above-referenced docket.

The EA was prepared to satisfy the requirements of the National Environmental Policy Act. The staff concludes that approval of the proposed project, with appropriate mitigating measures, would not constitute a major Federal action significantly affecting the quality of the human environment.

The EA assesses the potential environmental effects of the proposed project which includes expansion of the existing Elba Island LNG import terminal in Chatham County, Georgia. Southern LNG proposes to:

—Construct an LNG unloading slip cut into Elba Island with two ship unloading docks;

—Construct a 1,000,000-barrel double walled LNG storage tank;

—Construct two boil-off gas compressors;

—Construct two first-stage (booster) LNG pumps;

—Construct a recondenser vessel;

—Construct three second-stage LNG pumps;

—Construct three submerged combustion vaporizers; and

—Construct a motor control center.

The proposed facilities would expand the storage and sendout capacity of Southern LNG's existing LNG import terminal in Chatham County, Georgia. The proposal would: (1) Expand the storage capacity of the terminal; and (2) increase the sustainable daily sendout capability to 806 million standard cubic feet per day (MMscf/d) and its peaking capacity to 1,215 MMscf/d. Southern LNG seeks import authorization in Docket No. CP02-379-000.

The EA has been placed in the public files of the FERC. A limited number of copies of the EA are available for distribution and public inspection at: Federal Energy Regulatory Commission, Public Reference and Files Maintenance Branch, 888 First Street, NE., Room 2A, Washington, DC 20426, (202) 502-8371.

Copies of the EA have been mailed to Federal, State and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

—Send an original and two copies of your comments to: Secretary, Federal Energy Regulatory Commission, 888 First St., NE., Room 1A, Washington, DC 20426.

—Label one copy of the comments for the attention of Gas Branch 1, PJ 11.1;

—Reference Docket No. CP02-380-000; and

—Mail your comments so that they will be received in Washington, DC on or before March 7, 2003.

Please note that we are continuing to experience delays in mail deliveries from the U.S. Postal Service. As a result, we will include all comments that we receive within a reasonable time frame in our environmental analysis of this project. However, the Commission strongly encourages electronic filing of any comments or interventions or protests to this proceeding.See 18 CFR 385.2001(a)(1)(iii) and the instructions on the Commission's Web site at http://www.ferc.gov under the “e-Filing” link and the link to the User's Guide. Before you can file comments you will need to create a free account which can be created by clicking on “Login to File” and then “New User Account.”

Comments will be considered by the Commission but will not serve to make the commentor a party to the proceeding. Any person seeking to become a party to the proceeding must file a motion to intervene pursuant to rule 214 of the Commission's rules of practice and procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659 or at FERConlineSupport@ferc.gov. The FERRIS link on the FERC Internet Web site also provides access to the texts of formal documents issued by the Commission, such as orders, notices, and rulemakings.

Magalie R. Salas,
Secretary.

[FR Doc. 03-3354 Filed 2-10-03; 8:45 am]

BILLING CODE 6717-01-P